DEPARTMENT OF ENERGY

Western Area Power Administration

Post-2005 Resource Pool, Pick-Sloan Missouri Basin Program, Eastern Division

AGENCY: Western Area Power Administration, DOE.

ACTION: Notice for Letters of Interest.

SUMMARY: The Western Area Power Administration (Western), Upper Great Plains Customer Service Region, a Federal power marketing agency of the Department of Energy (DOE), is publishing this notice to solicit Letters of Interest from entities interested in an allocation of power, and/or in providing comments regarding a proposed resource pool, and to gather information to aid Western in determining the appropriate purposes for this proposed resource pool. A Federal power resource pool increment of up to 1 percent of the long-term marketable resource of the Pick-Sloan Missouri Basin Program, Eastern Division (P-SMBP-ED) may become available January 1, 2006, under the Energy Planning and Management Program (Program).

DATES: Western will hold four public information forums (each not exceeding 3 hours). The public information forum dates are:

1. May 14, 2002, 1 p.m. to 4 p.m., Billings, Montana.

2. May 15, 2002, 1 p.m. to 4 p.m., Fargo, North Dakota.

3. May 16, 2002, 1 p.m. to 4 p.m., Omaha, Nebraska.

4. May 17, 2002, 9 a.m. to 12 p.m., Pierre, South Dakota.

ADDRESSES: Send Letters of Interest to Gerald C. Wegner, Regional Manager, Upper Great Plains Customer Service Region, Western Area Power Administration, 2900 4th Avenue North, Billings, MT 59107-5800.

The public information forum locations are:

1. Billings—Sheraton Hotel, 27 North 27th Street, Billings, MT 59101.

2. Fargo—Best Western Doublewood Inn, 3333 13th Avenue South, Fargo, ND 58103.

3. Omaha—Holiday Inn Central, 3321 South 72nd Street, Omaha, NE 68124.

4. Pierre—Best Western's Kings Inn, 220 South Pierre, Pierre, SD 57501.

FOR FURTHER INFORMATION CONTACT: Jon R. Horst, Public Utilities Specialist, Upper Great Plains Customer Service Region, Western Area Power Administration, 2900 4th Avenue North, Billings, MT 59107-5800, telephone (406) 247-7444, e-mail horst@wapa.gov.

All documentation developed or retained by Western in developing this Post-2005 Resource Pool will be available for inspection and copying at the Upper Great Plains Customer Service Region in Billings, Montana.

SUPPLEMENTARY INFORMATION: On October 20, 1995, Western published the Final Program Rule. The Final Rule became effective on November 20, 1995. Subpart C-Power Marketing Initiative of the Program, Final Rule, 10 CFR part 905, published at 60 FR 54151 provides for project-specific resource pools and allocations of power from these pools to eligible new customers and/or for other appropriate purposes as determined by Western. The goal of the Program is to require planning for efficient electric energy use by Western's long-term firm power customers. Specifically, 10 CFR part 905.32 (b) provides:

At two 5-year intervals after the effective date of the extension to existing customers, Western shall create a project-specific resource pool increment of up to 1 percent of the long-term marketable resource under contract at the time. The size of the additional resource pool increment shall be determined by Western based on consideration of the actual fair-share needs of eligible new customers and other appropriate purposes.

Letters of Interest for the proposed P-SMBP-ED resource pool should contain the following information: name(s) of the interested entity, entity's interest, geographic location of the entity, and suggested appropriate purposes of the resource pool. All Letters of Interest must be received by 5 p.m., MDT, on June 17, 2002. Entities sending Letters of Interest are encouraged to use certified mail. All Letters of Interest will be accepted via regular mail through the United States Postal Service if postmarked at least 3 days before June 20, 2002. Western reserves the right to not consider any Letters of Interest that are not received by the prescribed dates. Western does not consider Letters of Interest as a means for application to this resource pool. Calls for application, if determined to be necessary, will be made in a subsequent future notice published in the Federal Register.

I. Review Under the Regulatory Flexibility Act

The Regulatory Flexibility Act, 5 U.S.C. 601-621, requires Federal agencies to perform a regulatory flexibility analysis if a final rule is likely to have a significant economic impact on a substantial number of small entities and there is a legal requirement to issue a general notice of proposed rulemaking. Western has determined this action does not require a regulatory flexibility analysis since it is a rulemaking of particular applicability involving rates or services applicable to public property.

II. Small Business Regulatory Enforcement Fairness Act

Western determined this rule is exempt from congressional notification requirements under 5 U.S.C. 801 because the action is a rulemaking of particular applicability relating to rates or services and involves matters of procedure.

III. Determination 12866

DOE has determined that this is not a significant regulatory action because it does not meet the criteria of Executive Order 12866, 58 FR 51735. Western has an exemption from centralized regulatory review under Executive Order 12866; accordingly, this notice requires no clearance by the Office of Management and Budget.

IV. Environmental Compliance

Western has completed an environmental impact statement on the Program, pursuant to the National Environmental Policy Act of 1969 (NEPA). The Record of Decision was published in 60 FR 53181, October 12, 1995. Western's NEPA review assured all environmental effects related to these actions have been analyzed.

Dated: April 9, 2002.
Michael S. Hacskaylo,
Administrator.

[FR Doc. 02-9765 Filed 4-19-02; 8:45 am]

BILLING CODE 6450-01-P